DEPARTMENT OF TRANSPORTATION

Federal Aviation Administration

14 CFR Part 39

[Docket No. FAA-2025-2260; Project Identifier MCAI-2025-00043-T; Amendment 39-23207; AD 2025-24-10]

RIN 2120-AA64

Airworthiness Directives; Gulfstream Aerospace LP (Type Certificate Previously Held by Israel Aircraft Industries, Ltd.) Airplanes

AGENCY: Federal Aviation Administration (FAA), DOT.

ACTION: Final rule.

SUMMARY: The FAA is adopting a new airworthiness directive (AD) for all Gulfstream Aerospace LP Model Gulfstream 100, Astra SPX, and 1125 Westwind Astra airplanes. This AD was prompted by a determination that new airworthiness limitations are necessary. This AD requires revising the existing maintenance or inspection program, as applicable, to incorporate new airworthiness limitations. The FAA is issuing this AD to address the unsafe condition on these products.

DATES: This AD is effective January 16, 2026.

The Director of the Federal Register approved the incorporation by reference of a certain publication listed in this AD as of January 16, 2026.

ADDRESSES:

AD Docket: You may examine the AD docket at regulations.gov under Docket No. FAA-2025-2260; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Civil Aviation Authority of Israel (CAAI) material identified in this AD, contact CAAI, P.O. Box 1101, Golan Street, Airport City, 70100, Israel; telephone 972-3-9774665; email aip@mot.gov.il. You may find this material on the CAAI website at www.gov.il/en/pages/israeli-airworthiness-directives.

• You may view this material at the FAA, Airworthiness Products Section, Operational Safety Branch, 2200 South 216th St., Des Moines, WA. For information on the availability of this material at the FAA, call 206-231-3195. It is also available at regulations.gov under Docket No. FAA-2025-2260.

FOR FURTHER INFORMATION CONTACT: Trevor Carlton, Aviation Safety Engineer, FAA, 1600 Stewart Avenue, Suite 410, Westbury, NY 11590; phone: 404-474-5597; email: trevor.p.carlton@faa.gov.

SUPPLEMENTARY INFORMATION:

Background

The FAA issued a notice of proposed rulemaking (NPRM) to amend 14 CFR part 39 by adding an AD that would apply to all Gulfstream Aerospace LP Model Gulfstream 100, Astra SPX, and 1125 Westwind Astra airplanes. The NPRM was published in the Federal Register on August 21, 2025 (90 FR 40784). The NPRM was prompted by CAAI AD I-32-25-01-7, dated January 13, 2025 (CAAI AD ISR I-32-25-01-7) (also referred to as the MCAI), issued by CAAI, which is the aviation authority for Israel. The MCAI states an in-service failure of the nose landing gear (NLG) actuator-to-strut attachment pin was reported. The FAA has determined that new airworthiness limitations are necessary for NLG actuator-to-strut attachment pins, part numbers (P/Ns) 2247.0500.007 and 2247.0500.008.

In the NPRM, the FAA proposed to require revising the existing maintenance or inspection program, as applicable, to incorporate new airworthiness limitations, as specified in CAAI AD ISR I-32-25-01-7. The FAA is issuing this AD to prevent failure of the NLG actuator-to-strut attachment pin. The unsafe condition, if not addressed, could result in failure of the NLG to retract and lock after takeoff or extend and lock before landing.

You may examine the MCAI in the AD docket at regulations.gov under Docket No. FAA-2025-2260.

Discussion of Final Airworthiness Directive

Comments

The FAA received a comment from an individual who supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed CAAI AD ISR I-32-25-01-7, which specifies new airworthiness limitations for safe life limits of the NLG actuator-to-strut attachment pins, P/Ns 2247.0500.007 and 2247.0500.008. This material is reasonably available because the interested parties have access to it through their normal course of business or by the means identified in the ADDRESSES section.

Costs of Compliance

The FAA estimates that this AD affects 86 airplanes of U.S. registry. The FAA estimates the following costs to comply with this AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-24-10 Gulfstream Aerospace LP (Type Certificate Previously Held by Israel Aircraft Industries, Ltd.): Amendment 39-23207; Docket No. FAA-2025-2260; Project Identifier MCAI-2025-00043-T.

(a) Effective Date

This airworthiness directive (AD) is effective January 16, 2026.

(b) Affected ADs

None.

(c) Applicability

This AD applies to all Gulfstream Aerospace LP Model Gulfstream 100, Astra SPX, and 1125 Westwind Astra airplanes, certificated in any category.

(d) Subject

Air Transport Association (ATA) of America Code 32, Landing gear.

(e) Unsafe Condition

This AD was prompted by a determination that new airworthiness limitations are necessary. The FAA is issuing this AD to prevent failure of the nose landing gear (NLG) actuator-to-strut attachment pin. The unsafe condition, if not addressed, could result in failure of the NLG to retract and lock after takeoff or extend and lock before landing.

(f) Compliance

Comply with this AD within the compliance times specified, unless already done.

(g) Requirements

Except as specified in paragraph (h) of this AD: Comply with all required actions and compliance times specified in, and in accordance with, CAAI AD ISR I-32-25-01-7, dated January 13, 2025 (CAAI AD ISR I-32-25-01-7).

(h) Exceptions to CAAI AD ISR I-32-25-01-7

(1) Where CAAI AD ISR I-32-25-01-7 refers to its effective date, this AD requires using the effective date of this AD.

(2) The initial compliance time for doing the tasks specified in the Action paragraph of CAAI AD ISR I-32-25-01-7 is at the applicable discard interval specified in the material referenced in the Action paragraph of CAAI AD ISR I-32-25-01-7, or within 3 months after the effective date of this AD, whichever occurs later.

(3) Where the Action paragraph of CAAI AD ISR I-32-25-01-7 specifies “to incorporate AMM Revision 26”, this AD requires replacing that text with “revise the existing maintenance or inspection program, as applicable, by incorporating the information in the Nose Landing Gear Actuator Attachment Pin—Life Limit (Scrap) tasks for SHL part numbers 2247.0500.007 and 2247.0500.008”.

(4) Where the Action paragraph of CAAI AD ISR I-32-25-01-7 specifies “to incorporate AMM Revision 32”, this AD requires replacing that text with “revise the existing maintenance or inspection program, as applicable, by incorporating the information in the NLG Actuator Attachment Pin—Life Limit (Scrap) tasks for SHL part numbers 2247.0500.007 and 2247.0500.008”.

(i) Provisions for Alternative Actions and Intervals

After the existing maintenance or inspection program has been revised as required by paragraph (g) of this AD, no alternative actions (e.g., inspections) and intervals are allowed unless they are approved as specified in the provisions of paragraph (j)(1) of this AD.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or CAAI; or CAAI's authorized Designee. If approved by the CAAI Designee, the approval must include the Designee's authorized signature.

(k) Additional Information

(1) For more information about this AD, contact Trevor Carlton, Aviation Safety Engineer, FAA, 1600 Stewart Avenue, Suite 410, Westbury, NY 11590; phone: 404-474-5597; email: trevor.p.carlton@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Civil Aviation Authority of Israel (CAAI) AD ISR I-32-25-01-7, dated January 13, 2025.

(ii) [Reserved]

(3) For CAAI material identified in this AD, contact CAAI, P.O. Box 1101, Golan Street, Airport City, 70100, Israel; telephone 972-3-9774665; fax 972-3-9774592; email aip@mot.gov.il. You may find this material on the CAAI website at gov.il/en/pages/israeli-airworthiness-directives.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 4, 2025.
Steven W. Thompson,
Acting Deputy Director, Compliance & Airworthiness Division, Aircraft Certification Service.

[FR Doc. 2025-22628 Filed 12-11-25; 8:45 am]

BILLING CODE 4910-13-P